INTERNATIONAL TRADE COMMISSION

[Investigation No. 337-TA-976]

Certain Woven Textile Fabrics and Products Containing Same Institution of Investigation

AGENCY: U.S. International Trade Commission.

ACTION: Notice.

SUMMARY: Notice is hereby given that a complaint was filed with the U.S. International Trade Commission on October 1, 2015, under section 337 of the Tariff Act of 1930, as amended, 19 U.S.C. 1337, on behalf of AAVN, Inc. of Richardson, Texas. Supplements were filed on October 9 and 13, 2015. An amended complaint was filed on October 20, 2015. A second amended complaint was filed on November 12, 2015. A further supplementation was filed on December 4, 2015. The second amended complaint alleges violations of section 337 based upon the importation into the United States, the sale for importation, and the sale within the United States after importation of certain woven textile fabrics and products containing same by reason of infringement of certain claims of U.S. Patent No. 9,131,790 (“the '790 patent”), and that an industry in the United States exists as required by subsection (a)(2) of section 337. The second amended complaint further alleges violations of section 337 based upon the importation into the United States, the sale for importation into the United States, or in the sale of certain woven textile fabrics and products containing same by reason of false advertising, the threat or effect of which is to destroy or substantially injure an industry in the United States.

The complainant requests that the Commission institute an investigation and, after the investigation, issue a general exclusion order, or in the alternative a limited exclusion order, and cease and desist orders.

ADDRESSES: The second amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2015).

Scope of Investigation: Having considered the second amended complaint, the U.S. International Trade Commission, on December 14, 2015, ordered that—

(1) Pursuant to subsection (b) of section 337 of the Tariff Act of 1930, as amended, an investigation be instituted to determine whether:

(a) There is a violation of subsection (a)(1)(B) of section 337 in the importation into the United States, the sale for importation, or the sale within the United States after importation of certain woven textile fabrics and products containing same by reason of infringement of one or more of claims 1-7 of the '790 patent, and whether an industry in the United States exists as required by subsection (a)(2) of section 337;

(b) whether there is a violation of subsection (a)(1)(A) of section 337 in the importation into the United States, or in the sale of certain woven textile fabrics and products containing same by reason of false advertising, the threat or effect of which is to destroy or substantially injure an industry in the United States; and

(2) For the purpose of the investigation so instituted, the following are hereby named as parties upon which this notice of investigation shall be served:

(a) The complainant is:

AAVN, Inc., 1401 North Central Expressway, Suite 370, Richardson, TX 75080.

(b) The respondents are the following entities alleged to be in violation of section 337, and are the parties upon which the complaint is to be served:

AQ Textiles, LLC, 7622 Royster Road, Greensboro, NC 27455.

Creative Textile Mills Pvt. Ltd., 115/116, Sun Industrial Estate, Sun Mill Compound, Lower Parel (W), Mumbai, Maharashtra 400013, India.

Indo Count Industries Ltd., 301 Arcadia, 3rd Floor, Nariman Point, Mumbai 400 021 Maharashtra, India.

Indo Count Global, Inc., 295 Fifth Avenue, Suite 1019, New York, NY 10016.

GHCL Limited, B-38, Institutional Area, Sector-1, Noida, Uttar Pradesh 201 301 India.

Grace Home Fashions LLC, 295 Fifth Avenue, Suite 812, New York, NY 10016.

E & E Company, Ltd., Ghodbunder Road, Waghbil Naka, Thane 400 607 Maharashtra, India.

E & E Company, Ltd., d/b/a JLA Home, 45875 Northport Loop East, Fremont, CA 94538.

Welspun Global Brands Ltd., Welspun City, Village Versamedi, Taluka Anjar, District Kutch, Gujarat 370 110, India.

Welspun USA Inc., 295 Fifth Avenue, Suite 1118-1120, New York, NY 10016.

Elite Home Products, Inc., 95 Mayhill Street, Saddle Brook, NJ 07663.

Pradip Overseas Ltd., 104/105, Chacharwadi, Opp. Zydus Cadilla, Sarkhej Bawla Highway, Ahmedabad—382 213, India.

Pacific Coast Textiles, Inc., 12621 Western Avenue, Garden Grove, CA 92841.

Amrapur Overseas, Inc., 12621 Western Avenue, Garden Grove, CA 92841.

Westport Linens, Inc., 230 5th Avenue # 1611, New York, NY 10001.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the second amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the second amended complaint and the notice of investigation. Extensions of time for submitting responses to the second amended complaint and the notice of investigation will not be granted unless good cause therefor is shown.

Failure of a respondent to file a timely response to each allegation in the second amended complaint and in this notice may be deemed to constitute a waiver of the right to appear and contest the allegations of the second amended complaint and this notice, and to authorize the administrative law judge and the Commission, without further notice to the respondent, to find the facts to be as alleged in the second amended complaint and this notice and to enter an initial determination and a final determination containing such findings, and may result in the issuance of an exclusion order or a cease and desist order or both directed against the respondent.

By order of the Commission.
Issued: December 15, 2015.
Lisa R. Barton,
Secretary to the Commission.

[FR Doc. 2015-31839 Filed 12-17-15; 8:45 am]

BILLING CODE 7020-02-P